DEPARTMENT OF AGRICULTURE

Animal and Plant Health Inspection Service

[Docket No. APHIS-2010-0125]

Secretary's Advisory Committee on Animal Health; Meeting Agenda

AGENCY: Animal and Plant Health Inspection Service, USDA.

ACTION: Notice.

SUMMARY: This is a notice to inform the public of the topics on the agenda for an upcoming meeting of the Secretary's Advisory Committee on Animal Health. The meeting is organized by the Animal and Plant Health Inspection Service to discuss matters of animal health.

DATES: The meeting will be held July 22, 2011, from noon to 5 p.m. (eastern daylight time).

ADDRESSES: The meeting will be conducted as a multi-site teleconference. Opportunities for public participation are described in the SUPPLEMENTARY INFORMATION section of this notice.

FOR FURTHER INFORMATION CONTACT: Mr. Michael R. Doerrer, Chief Operating Officer, Veterinary Services, APHIS, USDA, 4700 River Road Unit 37, Riverdale, MD 20737; (301) 734-5665; e-mail: SACAH.Management@aphis.usda.gov.

SUPPLEMENTARY INFORMATION: The Secretary's Advisory Committee on Animal Health (the Committee) advises the Secretary of Agriculture on means to prevent, conduct surveillance on, monitor, control, or eradicate animal diseases of national importance. In doing so, the Committee will consider public health, conservation of natural resources, and the stability of livestock economies.

In a notice published in the Federal Register on May 19, 2011 (76 FR 28910), we announced that the next meeting of the Committee will be held on July 22, 2011, and that we would publish a notice in advance of that meeting to provide information on the meeting's agenda. This notice provides that information. At the July 2011 public meeting, topics to be discussed will include:

1. Bovine tuberculosis/brucellosis program update and feedback on new framework.

2. Wildlife Services: Its mission and collaboration with other units and agencies.

3. Changes to the Scrapie Flock Certification Program.

4. National Veterinary Stockpile: Its mission, outreach, and interaction with other agencies in emergency response.

5. Update on the National Animal Health Laboratory Network.

6. Emergency Management and Response: Foot and Mouth Disease Vaccination Supply Challenge.

7. VS 2015: A New Perspective.

Additional information, including the final agenda, will be posted on the Committee's Web site at http://www.aphis.usda.gov/animal_health/acah/.

Public Participation

This meeting will be a multi-site teleconference. Public attendees may join the call in “listen-only” mode. Members of the public who wish to listen in on the teleconference may do so by dialing 1-888-790-3291, followed by a public passcode, 1411045.

Questions and written statements for the meetings may be submitted up to 5 working days in advance of the meeting for the Committee's consideration. Questions and written statements may be sent via e-mail to SACAH.Management@aphis.usda.gov or mailed to the person listed under FOR FURTHER INFORMATION CONTACT at the beginning of this notice. Statements may also be filed with the Committee after the meeting by sending them to SACAH.Management@aphis.usda.gov.

This notice of the meeting agenda is given pursuant to section 10 of the Federal Advisory Committee Act (5 U.S.C. App. 2).

Done in Washington, DC, this 14th day of July 2011.
Gregory L. Parham,
Administrator, Animal and Plant Health Inspection Service.

[FR Doc. 2011-18172 Filed 7-18-11; 8:45 am]

BILLING CODE 3410-34-P